NATIONAL AERONAUTICS AND SPACE ADMINISTRATION

[Notice: 24-064]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). This Committee reports to the NAC. The meeting will be held for the purpose of soliciting, from the scientific community and other persons, scientific and technical information relevant to program planning.

DATES: Tuesday, October 8, 2024, 10 a.m.-5:30 p.m., eastern time; Wednesday, October 9, 2024, 10 a.m.-5:30 p.m., eastern time; Thursday, October 10, 2024, 10 a.m.-5:30 p.m., eastern time.

ADDRESSES: Public attendance will be virtual only. See dial-in and webinar information below under SUPPLEMENTARY INFORMATION.

FOR FURTHER INFORMATION CONTACT: Ms. KarShelia Kinard, Science Mission Directorate, NASA Headquarters, Washington, DC 20546, (202) 358-2355 or karshelia.kinard@nasa.gov.

SUPPLEMENTARY INFORMATION: As noted above, public attendance at this meeting is virtual and will take place telephonically and via webinar. The connectivity information for each day is provided below:

October 8, 2024: Link: https://teams.microsoft.com/l/meetup-join/19%3ameeting_YjRlZTRhMjktNTRmNi00ZWY0LTkyNjktMmMwMzgwOWQxYjdh%40thread.v2/0?context=%7b%22Tid%22%3a%227005d458-45be-48ae-8140-d43da96dd17b%22%2c%22Oid%22%3a%223b21b493-f605-44cb-9b20-ff359cc8903d%22%7d, Meeting ID: 226 737 057 212, Passcode: BqtM84, Call in number (audio only): +1 256-715-9946; Phone conference ID: 822 445 16#.

October 9, 2024: Link: https://teams.microsoft.com/l/meetup-join/19%3ameeting_YjBhNTA0OTMtOGVlMy00ZWI3LWJiNTYtNDJiM2RhODI3NTAx%40thread.v2/0?context=%7b%22Tid%22%3a%227005d458-45be-48ae-8140-d43da96dd17b%22%2c%22Oid%22%3a%223b21b493-f605-44cb-9b20-ff359cc8903d%22%7d, Meeting ID: 219 311 773 995, Passcode: Zx83Cq, Call in number (audio only): +1 256-715-9946; Phone conference ID: 883 571 170#.

October 10, 2024: Link: https://teams.microsoft.com/l/meetup-join/19%3ameeting_ZjkxZWUwMjctOWYzNy00ZTE3LTg0MWQtNDcwNWFkNjZiMzEx%40thread.v2/0?context=%7b%22Tid%22%3a%227005d458-45be-48ae-8140-d43da96dd17b%22%2c%22Oid%22%3a%223b21b493-f605-44cb-9b20-ff359cc8903d%22%7d, Meeting ID: 288 180 042 970, Passcode: DB8pn6, Call in number (audio only): +1 256-715-9946; Phone conference ID: 185 779 216#.

The agenda for the meeting includes the following topics:

—Science Mission Directorate (SMD) Missions, Programs, and Activities

—SMD Division Advisory Committee Updates

It is imperative that the meeting be held on these dates due to the scheduling priorities of the key participants.

Jamie M. Krauk,
Advisory Committee Management Officer, National Aeronautics and Space Administration.

[FR Doc. 2024-21149 Filed 9-17-24; 8:45 am]

BILLING CODE 7510-13-P